DEPARTMENT OF COMMERCE

National Oceanic and Atmospheric Administration

[Docket No. 040825246-5115-02]

Privacy Act of 1974; System of Records; Commerce/NOAA System-16, Crab Economic Data Report for Bering Sea/Aleutian Islands Management Area (BSAI) Off the Coast of Alaska

AGENCY: National Oceanic and Atmospheric Administration, Department of Commerce.

ACTION: Notice.

SUMMARY: The Department of Commerce (Commerce) publishes this notice to announce the effective date of a Privacy Act System of Records notice entitled Commerce/NOAA System-16, Crab Economic Data Report for Bering Sea/Aleutian Islands Management Area (BSAI) off the Coast of Alaska.

DATES: The system of records becomes effective on May 13, 2005.

ADDRESSES: For a copy of the system of records please mail requests to Sue Salveson, Assistant Regional Administrator for Sustainable Fisheries, Alaska Region, National Marine Fisheries Service, P.O. Box 21668, Juneau, AK 99802, Attn: Lori Durall, or deliver to the Federal Building, 709 West 9th Street, Juneau, AK 99802.

FOR FURTHER INFORMATION CONTACT: Patsy A. Bearden, 907-586-7008.

SUPPLEMENTARY INFORMATION: On March 3, 2005, the Commerce published and requested comments on a proposed Privacy Act System of Records notice entitled Commerce/NOAA System-16, Crab Economic Data Report for Bering Sea/Aleutian Islands Management Area (BSAI) off the Coast of Alaska (70 FR 10360, March 3, 2005). No comments were received in response to the request for comments. By this notice, the Department is adopting the proposed system as final without changes effective May 13, 2005.

Dated: May 9, 2005.
Brenda Dolan,
Department of Commerce, Freedom of Information/Privacy Act Officer.

[FR Doc. 05-9579 Filed 5-12-05; 8:45 am]

BILLING CODE 3510-22-P